DEPARTMENT OF TRANSPORTATION

Federal Railroad Administration

[Docket Number FRA-2016-0068]

Notice of Application for Approval of Discontinuance or Modification of a Railroad Signal System

In accordance with part 235 of Title 49 Code of Federal Regulations (CFR) and 49 U.S.C. 20502(a), this document provides the public notice that by a document dated June 29, 2016, the Union Pacific Railroad (UP) petitioned the Federal Railroad Administration (FRA) seeking approval for the discontinuance or modification of a signal system. FRA assigned the petition Docket Number FRA-2016-0068.

Applicant: Union Pacific Railroad, Mr. Kevin D. Hicks, AVP Engineering-Design, 1400 Douglas Street, MS 0910, Omaha, NE 68179.

UP seeks approval of the modification of Control Point (CP) B002 on the Omaha Subdivision, at Milepost (MP) 2.00, in the State of Iowa, by dividing it into two CPs: CP B902 and CP B002.

The reason given for the proposed modification is to accommodate a U.S. Department of Transportation (DOT) project to widen Interstate 29 as well as to facilitate yard operations and expedite train movements in the area. All existing signals at the present CP B002 will be removed and replaced with the proposed layout at the new CPs B002 and B902. Existing switches will be relocated to accommodate DOT's Interstate 29 widening project. An interface house will be installed at CP B003 to replace the line circuits currently in service across the Missouri River Bridge with coded track, and the signal aspect progression will be upgraded to four aspects from the current three. This modification will follow the completion of Phase 1 of the project, which was assigned Docket Number FRA-2015-0051, and was approved on October 5, 2015.

A copy of the petition, as well as any written communications concerning the petition, is available for review online at www.regulations.gov and in person at the U.S. Department of Transportation's Docket Operations Facility, 1200 New Jersey Avenue SE., W12-140, Washington, DC 20590. The Docket Operations Facility is open between 9 a.m. and 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 3, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Issued in Washington, DC, on August 15, 2016.
Karl Alexy,
Director, Office of Safety Analysis.

[FR Doc. 2016-19800 Filed 8-18-16; 8:45 am]

BILLING CODE 4910-06-P